ENVIRONMENTAL PROTECTION AGENCY

[FRL-9292-3]

New York State Prohibition of Discharges of Vessel Sewage; Receipt of Petition and Tentative Affirmative Determination

AGENCY: Environmental Protection Agency (EPA).

ACTION: Notice—Receipt of petition and tentative affirmative determination.

SUMMARY: Notice is hereby given that, pursuant to Clean Water Act, Section 312(f)(3) (33 U.S.C. 1322(f)(3)), the State of New York has determined that the protection and enhancement of the quality of the New York State areas of the Long Island Sound requires greater environmental protection, and has petitioned the United States Environmental Protection Agency, Region 2, for a determination that adequate facilities for the safe and sanitary removal and treatment of sewage from all vessels are reasonably available for those waters, so that the State may completely prohibit the discharge from all vessels of any sewage, whether treated or not, into such waters.

New York State has proposed to establish a “Vessel Waste No-Discharge Zone” for the Long Island Sound that encompasses approximately 760 square miles, includes the open waters, harbors, bays and navigable tributaries of the Sound and a portion of the East River, from the Hell Gate Bridge in the west to the northern bounds of Block Island Sound in the east. It excludes waters of Mamaroneck Harbor, Huntington-Northport Bay Complex, Port Jefferson Complex, Hempstead Harbor and Oyster Bay/Cold Spring Harbor Complex, which have been previously designated as No Discharge Zones.

DATES: Comments regarding this tentative determination are due by May 11, 2011.

ADDRESSES: You may submit comments by any of the following methods:

• E-mail: chang.moses@epa.gov. Include “Comments on Tentative Affirmative Decision for NYS LIS NDZ” in the subject line of the message.

• Fax: 212-637-3891.

• Mail and Hand Delivery/Courier: Moses Chang, U.S. EPA Region 2, 290 Broadway, 24th Floor, New York, NY 10007-1866. Deliveries are only accepted during the Regional Office's normal hours of operation (8 a.m. to 5 p.m., Monday through Friday, excluding federal holidays), and special arrangements should be made for deliveries of boxed information.

FOR FURTHER INFORMATION CONTACT: Moses Chang, (212) 637-3867, e-mail address: chang.moses@epa.gov.

SUPPLEMENTARY INFORMATION: Notice is hereby given that the State of New York (NYS or State) has petitioned the United States Environmental Protection Agency, Region 2, (EPA) pursuant to section 312(f)(3) of Public Law 92-500 as amended by Public Law 95-217 and Public Law 100-4, that adequate facilities for the safe and sanitary removal and treatment of sewage from all vessels are reasonably available for the NYS areas of the Long Island Sound (LIS or Sound). Adequate pumpout facilities are defined as one pumpout station for 300-600 boats under the Clean Vessel Act: Pumpout Station and Dump Station Technical Guidelines (Federal Register, Vol. 59, No. 47, March 10, 1994).

The Long Island Sound is one of the nation's premier water bodies, and supports a variety of possible uses—fish and shellfisheries, fish spawning areas, breeding grounds, valuable wildlife habitats, bathing beaches, commercial and recreational boating, and a profusion of recreational resources.

In 1985, recognizing the Sound's ecological and economic value, New York State partnered with Connecticut and the EPA to create and support the Long Island Sound Study (LISS). The Sound was recognized as an Estuary of National Significance under the Clean Water Act in 1988, and as such, is one of the nation's twenty-eight (28) National Estuary Programs.

The ecological, economic, and recreational resources provided by the Long Island Sound are vulnerable to the effects of poor water quality. The Sound was once home to some of the most productive shellfish beds in the nation, but many have now closed due to pathogen, low dissolved oxygen, and excessive nutrient contamination.

The State of Connecticut designated the Connecticut portion of the Long Island Sound as a No-Discharge Zone (NDZ) in 2007. Previously established No-Discharge Zones in both New York State and Connecticut have made important reductions in vessel waste as a source of water pollution in the Long Island Sound. Degradation of any area, however, affects the whole. Extending the No-Discharge Zone designation to the remainder of the Long Island Sound would therefore be a positive component of an overall strategy to protect and improve these waters and would create a unified approach to vessel waste for the entirety of this waterbody.

In order for EPA to determine that adequate facilities for the safe and sanitary removal and treatment of sewage from all vessels are reasonably available for the New York State areas of the Long Island Sound, the State must demonstrate that the pumpout-to-vessel ratio does not exceed 1:300. In its petition, the State described the recreational and commercial vessels that use the Sound, and the pumpout facilities that are available for their use.

The recreational vessel population, 11,693, was estimated using 2008 recreational vessel registrations. In addition to recreational vessels, the Sound is used by commercial vessels. The majority of commercial vessels are small fishing vessels, tankers, tugs, or barges. Because the small fishing vessels are comparably sized to the bulk of recreational vessels, they can make use of the existing vessel pumpouts that are available for recreational vehicles. The small commercial vessel population, 500, was estimated based on aerial photographs used to develop the 1996 Statewide Clean Vessel Plan. The figures for recreational and small commercial vessels were then compared to the number of pumpouts available to determine the applicable ratio and whether the requirement is met. There are fifty-two (52) pumpout facilities funded by the Clean Vessel Assistance Program (CVAP) in the relevant areas of the Sound. Of those, twenty-six (26) discharge to a holding tank and twenty-six (26) discharge to a municipal wastewater treatment plant. There are also sixteen (16) other (non-CVAP funded) pumpouts available for recreational and small commercial vessels that either discharge to a holding tank or to a municipal wastewater treatment plant. Therefore, the total number of pumpouts available for the 12,193 recreational and small commercial vessels that use the Sound is sixty-eight (68), and the pumpout-to-vessel ratio for those vessels is 1:179.3 (68:12,193).

The number of large commercial vessels was estimated using the following information sources: ballast manifests; U.S. Coast Guard assessments; phone contacts with ferries, cruise ships, the State University of New York (SUNY), and the Port Authority of New York and New Jersey. On any given day, the numbers of large vessels in the New York waters of the Long Island Sound is very low, partially due to complex navigational issues. Tankers, tugs, cruise ships and barges have access to mobile pumpout facilities (i.e., “honey-dipper” trucks or boats) as they do in Connecticut, or may access pumpout facilities at their home port, outside of the region, eliminating the need for services within the Sound.

Ferries constitute the greatest need for pumpouts for large commercial vessels. The New London to Orient Point Ferry does not discharge to LIS waters. It pumps waste from its ferries into the New London City sewer system. The Bridgeport to Port Jefferson Ferry could discharge its waste into a sewage system operated by either the Town of Port Jefferson, or Suffolk County, and the ferry company is in the process of negotiating an agreement to do so. In the interim, septic truck services are readily available for pumpout while the ferries are docked in Bridgeport. SUNY Maritime College's large vessel is equipped with a marine sanitation device (MSD) that it discharges to the open sea or when docked in its home port at Fort Schuyler. SUNY may install a sewer pipe on the pier so that the vessel can discharge to the municipal system. In the interim, septic truck services are readily available for pumpout when in port at Fort Schuyler.

A list of the facilities, phone numbers, locations, hours of operation, water depth and fee is provided as follows:

List of Pumpouts in the LIS NDZ Proposed Area
No. | Name | Location | Contact information | Dates/days/hours of operation | Water depth (feet) | Fee
1 | Wright Island Marina | Milton Harbor, New Rochelle | 914-235-8013 | Memorial Day to Labor Day; daily; 9 a.m.-5 p.m | 10 | $5.00.
2 | Nichols Yacht Yard, Inc | Mamaroneck Harbor, Mamaroneck | 914-698-6065 | Apr 15-Oct 15; daily; 9 a.m.-5 p.m. | 8 | Free.
3 | Village of Mamaroneck—Harbor Island East and West Basin | Mamaroneck Harbor, Mamaroneck | 914-777-7703; VHF 16 | Apr-Nov; Mon-Sun (in season); 24 hours | 8.5 | Free.
4 | City of Rye—Municipal Boat Basin | Milton Harbor, Rye | 914-967-2011; VHF 16 | Apr 1-Oct 31; Mon-Sun; 8 a.m.-8 p.m | 5 | Free.
5 | Town of Huntington—Cold Spring Harbor Replace | Cold Spring Harbor, Huntington | 631-351-3049; VHF 9 | May 1-Oct 31; Mon-Sun; 8 a.m.-8 p.m | 6 | Free.
6 | Village of Greenport—Boat Engine Replacement | Greenport Harbor, Greenport | 631-477-2385; VHF 9 | May 1-Oct 31; Mon-Sun; 8 a.m.-5 p.m | N/A | $5.00.
7 | Port of Egypt Marine, Inc | Southold Bay, Southold | 631-765-2445 | Apr-Nov; Mon-Sun; 7:30 a.m.-5 p.m | 4 | $5.00.
8 | Claudio's Marina | Greenport Harbor, Greenport | 631-477-0355; VHF 9 | Apr 1-Nov 1; Mon-Sun; 8 a.m.-5 p.m | 10 | Free.
9 | Albertson Marine Inc | Southold Bay, Southold | 631-765-3232; VHF 16 & 18 | Apr-Dec (Closed Sundays, Jan-Mar); Mon-Sun, 8 a.m.-5 p.m. (Sun 9 a.m.-3 p.m.) | 5 | $5.00.
10 | Fishers Island Yacht Club Boat | Southold Bay, Fisher's Island | 631-788-7036; VHF 73 | Memorial Weekend to Columbus Day; Sat, Sun, & Holidays; 9 a.m-6 p.m. | 10 | Free.
11 | Old Dock Bluff Park Replace | Stony Brook Harbor, Smithtown | 631-360-7514; VHF 16 | Apr-Oct; Mon-Sun; 24 Hrs | 4 | Free.
12 | Town of Smithtown—Long Beach Mooring Area | Stony Brook Harbor, St. James | 631-360-7643; VHF 16 | Apr-Oct; Mon-Sun; 24 hours | 4 | Free.
13 | Coecles Harbor Marina and Boatyard, Inc | Coecles Harbor, Shelter Island | 631-749-0700; VHF 9 | May 15-Oct 12; Mon-Sun; 8 a.m.-5 p.m | 6 | $5.00.
14 | Village of Northport-Pumpout Boat | Northport Harbor, Northport | 631-261-7502; VHF 9 | May 15-Oct 15; Mon-Sun; 9 a.m.-5 p.m | N/A | Free.
15 | Town of Huntington—Woodbine Marina | Northport Harbor, Northport | 631-351-3192; VHF 9 | May 1-Oct 31; Mon-Sun; 8 a.m.-8 p.m | 6 | Free.
16 | Town of Huntington—South Town Dock | Huntington Harbor, Halesite | 631-351-3049; VHF 9 | May 1-Oct 31; Mon-Sun; Boats 8 a.m.-8 p.m.; Stationery station 24 hours | 10 | Free.
17 | Town of Huntington-Mill Dam Marina Pumpout | Huntington Harbor, Huntington | 631-351-3049; VHF 9 | Apr 1-Sept 30; Mon-Sun; 24 hours | 6 | Free.
18 | Town of Huntington—Huntington Boat Pumpout | Lloyd Harbor, Huntington | 631-351-3049; VHF 9 | Apr 20-Nov 30; Sat, Sun, & Holidays; 10 a.m.-8 p.m | 8 | Free.
19 | Town of Huntington—Halesite Marina Pumpout | Huntington Harbor, Huntington | 631-351-3049; VHF 9 | Apr 1-Sept 30; Mon-Sun; 24 hours | 10 | Free.
20 | Town of Huntington—Halesite Marina Boat | Huntington Harbor, Huntington | 631-351-3049; VHF 9 | Memorial Day to Labor Day; Sat & Sun; 10 a.m.-8 p.m | N/A | Free.
21 | Town of Huntington—Gold Star Battalion | Huntington Harbor, Huntington | 631-351-3049; VHF 9 | May 1-Oct 31; Mon-Sun; 8 a.m.-8 p.m | 8 | Free.
22 | Huntington Yacht Club | Huntington Harbor, Huntington | 631-427-4949; VHF 68 | Apr 15-Nov 15; Mon-Sun; 8 a.m.-8 p.m | 8 | $5.00.
23 | Town of Huntington-Mill Dam Marina Pumpout Upgrade | Huntington Harbor, Huntington | 631-351-3049; VHF 9 | Apr 1-Dec 31; Mon-Sun; 24 hours | 10 low tide | Free.
24 | Town of Brookhaven-Port Jefferson Boat-Replacement | Port Jefferson and Setauket Harbors & Conscience Bay, Port Jefferson | 631-473-3052; VHF 73 | May 15-Sept 15; Weekends & Holidays; 8 a.m.-4 p.m | N/A | Free.
25 | Town of Brookhaven—Mt. Sinai Boat-Replacement | Mt. Sinai Harbor, Port Jefferson | 631-473-3052; VHF 73 | Mid-May to Mid-Sept; Weekends & Holidays; 8 a.m.-4 p.m | N/A | Free.
26 | NYCDEP-World's Fair Marina | East River, Flushing | 631-595-4458; VHF 71 | May 1-Oct 31; Mon-Sun; 8 a.m.-6 p.m | 8 | Free.
27 | NYCDEP-Bayside Marina | Little Neck Bay, Flushing | 718-595-4458; VHF 72 | May 1-Oct 31; Mon-Sun; 24 hours | 4-12 | Free.
28 | Capri Marine & Yachting Center | Manhasset Bay, Port Washington | 516-883-7800; VHF 9 & 71 | May 1-Oct 31; Mon-Sun; 8 a.m.-10 p.m | 1.5 | Free.
29 | Town of Oyster Bay—Theodore Roosevelt Beach & Marina Upgrade | Oyster Bay | 516-624-6180 | N/A | N/A | Free.
30 | Town of Oyster Bay—Tappen Beach & Marina | Hempstead Harbor, Glenwood Landing | 516-624-6180; VHF 9 | Jan-Dec; Mon-Sun; 24 hours | 7-8 | Free.
31 | Sea Cliff Yacht Club | Hempstead Harbor, Sea Cliff | 516-671-7374; VHF 9 | May 15-Sept 15; Mon-Fri; 9 a.m.-5 p.m | 8 | $5.00.
32 | Town of North Hempstead—Port Washington Dock Pump Replacement | Hempstead Harbor, Port Washington | 516-767-4622; VHF 9 & 16 | May 15-Nov 1; Mon-Sun; 24 hours | 7 | Free.
33 | Town of North Hempstead—Manorhaven Beach Park | Manhasset Bay, Port Washington | 516-767-4622 | May 15-Nov 1; Wed-Sun; 8 a.m.-4 p.m | 6 | Free.
34 | Town of North Hempstead-Bar Beach Park | Hempstead Harbor, Port Washington | 516-767-4622; VHF 9 & 16 | Apr-Oct; Mon-Sun; 24 hours | 6 | Free.
35 | Manhasset Bay Marina (Port Washington)—1995 Project | Manhasset Bay, Port Washington | 516-883-8411; VHF 9 & 71 | Apr 1-Oct 1; Mon-Sun; 24 hours | 15 | Free.
36 | InspirationWharf, c/o Ventura Management Corp | Manhasset Bay, Port Washington | 516-883-7800; VHF 7 & 9 | May 1-Oct 31; Mon-Sun; 8 a.m.-10 p.m | 6 | Free.
37 | U.S Merchant Marine Academy | Little Neck Bay, Kings Point | 516-773-5798 | Jan-Dec; Mon-Sun; 9 a.m.-3 p.m | 6 | Free.
38 | Glen Cove Yacht Service & Repair, Inc. | Hempstead Harbor, Glen Cove | 516-676-0777 | Apr-Oct; Mon-Sun; 24 hours | 6 | $5.00.
39 | City of Glen Cove—Glen Cove Yacht Club | Hempstead Harbor, Glen Cove | 516-676-1625 | N/A | 7 | Free.
40 | Brewer Marina at Glen Cove | Hempstead Harbor, Glen Cove | 800-331-3077; VHF 9 & 16 | May 1-Oct 31; Mon-Sun; 7:30 a.m.-4 p.m | 6 | $5.00.
41 | NYCDEP—Locust Point Marina | Pelham Bay, Bronx | 718-595-4458; VHF 68 | May 1-Oct 31; Mon-Sun; Sunrise to Sunset | 4 | Free.
42 | City Island Yacht Sales—Pumpout Boat | Pelham Bay, City Island | 718-885-2300; VHF 9 | Apr 1-Dec 8; Mon-Sun; 8 a.m.-4:30 p.m | N/A | $5.00.
43 | City of New Rochelle—Municipal Marina | New Rochelle Creek & Lower Harbor, New Rochelle | 914-235-7339; VHF 9 & 16 | Apr-Nov 30; Mon-Sun; 24 hours | 8 | Free.
44 | Town of Oyster Bay—Theodore Roosevelt Beach & Marina Boat Rep | Oyster Bay Harbor and Mill Neck Bay, Oyster Bay | 516-624-6180; VHF 9 | Apr 1 to Mid-Nov; 7 days/week; 24 hours | 7-8 | Free.
45 | Haven Marina | Manhasset Bay, Port Washington | 516-883-0937 | May-Sept; Mon-Sun; Sunrise to Sunset | 8 | Free.
46 | Town of Smithtown—Long Beach Park East Replacement | Stony Brook Harbor, St. James | 631-360-7620; VHF 16 | Apr-Oct; Mon-Sun; 24 hours | 4 | Free.
47 | West Shore Marine | Esopus-Lloyd—Marlborough, Marlboro | VHF 16 & 19 | Mon-Sat, 8 a.m.-5 p.m.; Sun, 10 a.m.-5 p.m | N/A | Free.
48 | City of New Rochelle—Pumpout Boat | Echo Bay, New Rochelle | 914-235-7339; VHF 9 | Memorial Day to Labor Day; Fri-Mon; 8 a.m.-4 p.m | N/A | Free.
49 | City of New Rochelle—Municipal Marina | New Rochelle Creek & Lower Harbor, New Rochelle | 914-235-7339; VHF 9 & 16 | Apr-Nov 30; Mon-Sun; 24 hours | 8 | Free.
50 | Town of Huntington—Mill Dam Boat | Huntington Harbor, Huntington | 631-351-3049; VHF 9 | Apr 20-Sept 30; Sat, Sun & Holidays; 10 a.m.-8 p.m | 8 | Free.
51 | Manhasset Pumpout Boat | Manhasset Bay, Syosset | 516-677-5853 | Fri-Sun & Holidays; 10 a.m.-6 p.m | Varies | Free.
52 | North Hempstead Pumpout Boat | Manhasset Bay | 516-767-4622; VHF 9 or 71 | Apr 1-Oct 30; Mon-Fri; 9 a.m.-3 p.m | Varies | Free.
53 | Tappen Marina Pumpout Boat | Oyster Bay Harbor and Mill Neck Bay, Oyster Bay | 516-677-5853; VHF 9 | June-Oct; Fri-Mon; 8 a.m.-6 p.m | Varies | Free.
54 | Western Waterfront Pier | Oyster Bay Harbor, Oyster Bay | VHF 9 | Memorial Day to Labor Day; 7 days/week; 24 hours | N/A | Free.
55 | Theodore Roosevelt Pumpout Boat | Oyster Bay Harbor and Mill Neck Bay, Oyster Bay | 516-677-5853; VHF 9 | Mid-Apr to Oct 31; Thu-Sun; 10 a.m.-6 p.m | Varies | Free.
56 | Soundview Boat Ramp | Northport Harbor, Northport | 631-351-3255; VHF 9 | Memorial Day to Labor Day; Sat & Sun; 8 a.m.-8 p.m | 6′ at low tide; 12′ at high tide | Free.
57 | Island Boat Yard | West Neck Harbor, Shelter Island | 631-749-3333; VHF 9 | Apr 15-Oct 15; Mon-Sun; 9 a.m.-5 p.m | 15 | $5.00.
58 | Port Jefferson Marina | Port Jefferson Harbor, Port Jefferson | 631-331-3567; VHF 9 for marina, VHF 73 for pumpout boats | Boats: May to Mid-Sept; Fri, Sat, & Sun; 8 a.m.-6 p.m. Barge: May-Nov; 7 days/week; 24 hours | 11 | Free.
59 | Brewer Yacht Yard | Greenport Harbor, Greenport | 631-477-9594; VHF 9 | Year-round however they do winterize. If requested, can run the pumpout in winter conditions. 7 days/week, 24 hours | 8 | Free for self service; $5.00 for assistance from attendant.
60 | Brewer Yacht Yard | Greenport Harbor, Greenport | 631-477-0828; VHF 9 | 5 days/week, year-round; Mon-Fri 7:30 a.m.-4 p.m.; Sat in off season 8-12; Sat in season 7:30 a.m.-7 p.m | 7-8 | N/A
61 | Brick Cove Marina | Southold Harbor, Southold | 631-477-0830 | Mar-Dec; Mon-Fri, 7 a.m.-4 p.m.; Sat 9 a.m.-5 p.m.; Sun 1:30 p.m.-4 p.m | 6 | Yes, for non-marina customers.
62 | Goldsmith's Boat Shop | Southold Bay, Southold | 631-765-1600 | Year round; 7 days/week (closed Sun in Jan & Feb); 8:30 a.m.-4:30 p.m. (Sun 9 a.m.-4:30 p.m.) | 6 | N/A
63 | Mt. Sinai Yacht Club | Mt. Sinai Harbor, Mt. Sinai | 631-473-2993; VHF 16 | May 15-Oct 1; May & June, open Fri, Sat, & Sun; June to Labor Day, open 7 days/week; 9 a.m.-6 p.m | 20 | None for members; $15 for outside boaters.
64 | Mt. Sinai Marina | Mt. Sinai Harbor, Mt. Sinai | 631-928-0199; VHF 9 & 73 | Marina: Mother's Day to 1st weekend in Nov. Pumpout boats: May to Mid-Sept (8 a.m.-6 p.m.) | 6 | Free
65 | Old Man's Boatyard | Mt. Sinai Harbor, St. James | 631-473-7330 | Apr 15-Oct 15; Mon-Fri; 8 a.m.-4 p.m | 8 | $50 for pumpout.
66 | Danford's Marina | Port Jefferson Harbor, Port Jefferson | 631-928-5200; VHF 9 | May 1-Oct 31; 7 days/week; 7 a.m.-9 p.m | 3-10 | Free
67 | Knutson West Marina | Huntington Harbor, Huntington | 631-549-7842 | N/A | N/A | N/A
68 | Seymour's Boatyard | Northport Harbor, Northport | 631-261-6574 | Apr 15-Oct 31; 7 days/week; hours vary | 7 | N/A.

Based on the above, EPA hereby proposes to make an affirmative determination that adequate facilities for the safe and sanitary removal and treatment of sewage from all vessels are available for the waters of the New York State Long Island Sound. A 30-day period for public comment has been opened on this matter, and EPA invites any comments relevant to its proposed determination.

Dated: March 31, 2011.
Judith A. Enck,
Regional Administrator, Region 2.

[FR Doc. 2011-8463 Filed 4-8-11; 8:45 am]

BILLING CODE 6560-50-P